ENVIRONMENTAL PROTECTION AGENCY

40 CFR Part 52

[EPA-R07-OAR-2019-0666; FRL-10005-91-Region 7]

Air Plan Approval; Nebraska; Lincoln-Lancaster County Health Department (LLCHD); Reopening of the Comment Period and Availability of Supplemental Information

AGENCY: Environmental Protection Agency (EPA).

ACTION: Proposed rule; reopening of the comment period and availability of supplemental information.

SUMMARY: The Environmental Protection Agency (EPA) is announcing a reopening of the comment period for the proposed rule “Air Plan Approval; Nebraska; Lincoln-Lancaster County Health Department (LLCHD)” to provide an additional 30 days for public comment. This additional opportunity to submit comments is provided due to two comments the EPA received including one noting that the State submission was not provided in the docket to allow the reviewer the ability to fully evaluate EPA's proposed action. As a result, we are providing the State's submission in the docket and reopening the public comment period to afford stakeholders an opportunity to comment on the proposed SIP revision.

DATES: The comment period for the proposed rule, published on January 3, 2020 (85 FR 274), is reopened. Written comments must be received on or before April 6, 2020.

ADDRESSES: Submit your comments, identified by Docket ID No. EPA-R07-OAR-2019-0666, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: William Stone, Environmental Protection Agency, Region 7 Office, Air Quality Planning Branch, 11201 Renner Boulevard, Lenexa, Kansas 66219; telephone number: (913) 551-7714; email address: stone.william@epa.gov.

SUPPLEMENTARY INFORMATION: On January 3, 2020 (85 FR 274), the EPA published a notice of proposed rulemaking to approve a revision to the SIP submitted by the State of Nebraska that addresses the authority of the LLCHD in the Federal Register. The EPA received two comments including one noting that the State submission was not provided in the docket to allow the reviewer the ability to fully evaluate EPA's proposed action. As a result, we are providing the State's submission in the docket and reopening the public comment period to afford stakeholders an opportunity to comment on the proposed SIP revision. The EPA will address all comments received on the original proposal and on this supplemental action in our final action.

Dated: February 27, 2020.
James Gulliford,
Regional Administrator, Region 7.

[FR Doc. 2020-04431 Filed 3-4-20; 8:45 am]

BILLING CODE 6560-50-P